DEPARTMENT OF AGRICULTURE

Food and Nutrition Service

Supplemental Nutrition Assistance Program (SNAP) Enhancing Retail Food Store Eligibility—Listening Sessions

AGENCY: Food and Nutrition Service (FNS), USDA.

ACTION: Notice.

SUMMARY: This Notice announces 5 listening sessions to support the Request for Information (RFI) published by FNS regarding Supplemental Nutrition Assistance Program (SNAP) retailer eligibility requirements (78 FR 51136, August 20, 2013). As explained in the RFI, FNS is re-examining SNAP retailer eligibility requirements in part because of concerns raised in a recent FNS report examining the trafficking rates at different types of retail food stores and a 2006 Government Accountability Office (GAO) report suggesting that the minimal stocking requirements in SNAP contribute to corrupt retailers entering the program. The FNS report is available at: http://www.fns.usda.gov/ora/menu/Published/SNAP/FILES/ProgramIntegrity/Trafficking2009_Summary.pdf. The GAO report is available at: http://www.gao.gov/products/GAO-07-53. Information on SNAP retailer eligibility requirements is available at: http://www.fns.usda.gov/snap/retailers/store-eligibility.htm. The scheduled listening sessions provide an opportunity for FNS to seek public input on potential changes to retailer authorization requirements.

DATES: Listening sessions are scheduled in 5 cities: Wednesday, August 28 in Ames, Iowa; Monday, September 9 in Baltimore, Maryland; Tuesday, September 10 in Greenville, Mississippi; Wednesday, September 11 in Chicago, Illinois; and Monday, September 16 in Los Angeles, California.

ADDRESSES: Written comments may be submitted through the Federal eRulemaking Portal at www.regulations.gov. Follow the online instructions for submitting comments electronically. Written comments can also be mailed or delivered to: Shanta Swezy, Chief, Retailer Management and Issuance Branch, Retailer Policy and Management Division, Supplemental Nutrition Assistance Program, Food and Nutrition Service, U.S. Department of Agriculture, 3101 Park Center Drive, Room 426, Alexandria, Virginia 22302.

FOR FURTHER INFORMATION CONTACT: Contact information is listed under SUPPLEMENTARY INFORMATION.

SUPPLEMENTARY INFORMATION: Complete information for the five scheduled listening sessions is as follows:

1. City/State: Ames, Iowa; Date: Wednesday, August 28, 2013; Time: 4 p.m.-7 p.m.; Location: Iowa State University, Scheman Building Room 275; Address: 400 Beach Ave Iowa State Center, Ames, IA 50011; Contact: Bart Bushman (303) 844-0310.

2. City/State: Baltimore, MD; Date: Monday, September 9, 2013; Time: 4 p.m.-7 p.m.; Location: Enoch Pratt Central Library; Address: 400 Cathedral Street, Baltimore, MD 21201; Contact: Margarita Maisterrena (609) 259-5091.

3. City/State: Greenville, MS; Date: Tuesday, September 10, 2013. Time: 5 p.m.-8 p.m. Location: Greenville Higher Education Center. Address: 2900 A Highway 1 South, Greenville, MS; Contact: Debbie Smoot (404) 562-1810.

4. City/State: Chicago, IL; Date: Wednesday, September 11, 2013; Time: 4 p.m.-7 p.m.; Location: Walter Payton College Preparatory High School; Address: 1034 North Wells Street, Chicago, IL 60610; Contact: Alan Shannon (312) 353-1045.

5. City/State: Los Angeles, CA; Date: Monday, September 16, 2013; Time: 4 p.m.-7 p.m.; Location: East Los Angeles Community Service Center; Address: 133 N. Sunol Drive, Los Angeles, CA 90063; Contact: Julie Yee (415) 705-1311.

All sessions are open to the public and will be recorded. Each forum will begin with opening remarks from the USDA official charged with moderating the session. Both a sign language and a Spanish language interpreter will be available. Speakers' time will be limited to four minutes. Written comments will also be accepted at every session. Each session location is accessible to persons with disabilities.

The Agency is seeking public input regarding the following questions, with particular attention to impacts of each on program integrity, healthy food choices, access to food, and retailer operations. Listening session attendees will be provided with a list of these questions at the forum site:

1. Is ensuring that SNAP retailers provide SNAP clients access to healthy food choices a reasonable priority for establishing SNAP store eligibility criteria?

2. Are there store types that clearly meet all of the Program goals and, consequently, should always be eligible for SNAP participation?

3. Conversely, are there store types that do not effectively improve access to food choices (e.g., stores that sell low amounts of food when compared to the amounts of distilled liquor, tobacco and/or lottery tickets sold) and, therefore, should always be ineligible for SNAP participation?

4. Would a different definition of the “staple foods” required in SNAP authorized stores help to ensure that these stores offer more healthy food choices? If so, what kinds of changes would be most effective? Specifically, almost all foods can be counted towards meeting staple food requirements, including those high in added sugar, sodium or solid fats. Should foods high in these components be counted as staple foods when determining store authorization requirements?

5. How should prepared foods with multiple ingredients, such as chicken pot pie or other frozen dinners, or single serving meat jerky packages, be treated with regards to “staple foods” categories?

6. Do twelve items (the minimum amount necessary to meet SNAP authorization criterion A, by virtue of needing three varieties in the four different staple food categories) provide adequate variety for a retailer to further the Program's purpose? If not, what would be a more appropriate requirement?

7. Currently, retailers who are authorized under criterion A are required to stock perishable items (e.g., fresh, frozen or refrigerated fruits and vegetables; dairy; meats, poultry and fish; bread or cereal) in two categories. Should perishable items be required in more than two categories?

8. Are 50 percent of sales in staple foods, as currently required for criterion B, sufficient to ensure that a SNAP authorized store furthers the program's purpose, given the current definition of “staple foods?” Would this percentage be sufficient if the definition of “staple foods” is changed to exclude items high in added sugar, sodium or solid fats?

9. Should stores whose primary business (as evidenced by marketing, inventory or sales) is not the sale of food, be eligible to participate in SNAP?

10. Restaurants are generally prohibited from being SNAP retailers, and hot foods cannot be purchased with SNAP benefits. However, there are authorized retailers who primarily sell food for immediate consumption, often on premises, but also sell their products cold and heat them for SNAP recipients immediately after purchase for a nominal fee. These stores qualify today based on the array of raw ingredients, such as unbaked pizza or raw fish. Should such stores be eligible for participation in SNAP?

11. Should all retailers who meet SNAP eligibility criteria be authorized, even when sufficient store access for recipients is not a concern?

12. If store access were a concern in an area where no store meets basic eligibility criteria for SNAP authorization, how should FNS select the stores to authorize that best serve the needs of the client population? Should FNS employ an evaluation and scoring system? If so, what criteria should make up such a system?

13. How should integrity and management priorities be balanced against healthy food choice criteria in the SNAP authorization process? What elements could be used to assess integrity risks, and how should they be applied?

14. Are there any other ways in which the criteria for retailer eligibility should be changed? If so, how?

Dated: August 22, 2013.
Audrey Rowe,
Administrator, Food and Nutrition Service.

[FR Doc. 2013-20907 Filed 8-26-13; 8:45 am]

BILLING CODE 3410-30-P